DEPARTMENT OF TRANSPORTATION

Federal Aviation Administration

14 CFR Part 39

[Docket No. FAA-2006-25927; Directorate Identifier 2006-CE-52-AD; Amendment 39-15142; AD 2007-16-03]

RIN 2120-AA64

Airworthiness Directives; M7 Aerospace LP SA226 and SA227 Series Airplanes

AGENCY: Federal Aviation Administration (FAA), Department of Transportation (DOT).

ACTION: Final rule.

SUMMARY: We are adopting a new airworthiness directive (AD) to supersede AD 98-19-15 R1 and AD 2000-03-17, which apply to M7 Aerospace LP SA226 and SA227 series airplanes equipped with certain pitch trim actuators. AD 98-19-15 R1 currently requires you to incorporate changes into the Limitations Section of the FAA-approved airplane flight manual (AFM) if certain part number (P/N) pitch trim actuators are installed. AD 2000-03-17 requires repetitive inspections and repetitive replacements of the pitch trim actuator. The repetitive inspection and repetitive replacement times vary depending on the combination of airplane model and pitch trim actuator P/N installed. Since we issued AD 98-19-15 R1 and AD 2000-03-17, we have determined that reliance on critical repetitive inspections on aging commuter-class airplanes carries an unnecessary safety risk when a design change exists that could eliminate or, in certain instances, reduce the number of those critical inspections. Consequently, this AD retains all of the actions of the previously referenced ADs, places life limits on certain P/N pitch trim actuators, and requires the replacement of certain P/N pitch trim actuators with one of an improved design. Once installed, the improved design pitch trim actuator will terminate the AFM limitations in this AD and reduce the repetitive inspection and repetitive replacement requirements. We are issuing this AD to detect excessive freeplay or rod slippage in the pitch trim actuator, which, if not detected and corrected, could result in pitch trim actuator failure. We are also issuing this AD to lessen the severity of pitch upset if a pitch trim actuator mechanical failure occurs. These conditions could lead to possible loss of control.

DATES: This AD becomes effective on September 7, 2007.

As of April 10, 2000 (65 FR 8037, February 17, 2000), the Director of the Federal Register approved the incorporation by reference of the following Fairchild Aircraft service information listed in this AD:

• Fairchild Aircraft SA226 Series Service letter (SL) 226-SL-005, Revised: August 3, 1999;

• Fairchild Aircraft SA227 Series SL 227-SL-011, Revised August 3, 1999;

• Fairchild Aircraft SA227 Series SL CC7-SL-028, Issued: August 12, 1999;

• Fairchild Aircraft SA226 Series SL 226-SL-014, Revised: February 1, 1999;

• Fairchild Aircraft SA227 Series SL 227-SL-031, Revised: February 1, 1999; and

• Fairchild Aircraft SA227 Series SL CC7-SL-021, Revised: February 1, 1999.

ADDRESSES: For service information identified in this AD, contact M7 Aerospace LP, 10823 N.E. Entrance, San Antonio, Texas 78216.

To view the AD docket, go to U.S. Department of Transportation, Docket Operations, M-30, West Building Ground Floor, Room W12-140, 1200 New Jersey Avenue, SE., Washington, DC 20590, or on the Internet at http://dms.dot.gov. The docket number is FAA-2006-25927; Directorate Identifier 2006-CE-52-AD.

FOR FURTHER INFORMATION CONTACT: Werner Koch, Aerospace Engineer, 2601 Meacham Blvd, Fort Worth, Texas 76137-4298; telephone: (817) 222-5133; fax: (817) 222-5960.

SUPPLEMENTARY INFORMATION:

Discussion

On April 20, 2007, we issued a proposal to amend part 39 of the Federal Aviation Regulations (14 CFR part 39) to include an AD that would apply to M7 Aerospace LP SA226 and SA227 series airplanes equipped with certain pitch trim actuators. This proposal was published in the Federal Register as a notice of proposed rulemaking (NPRM) on April 30, 2007 (72 FR 21171). The NPRM proposed to supersede AD 98-19-15 R1 and AD 2000-03-17 with a new AD that would retain all of the actions of the previously referenced ADs but limit the part numbers of the pitch trim actuators that can be used for replacement. The NPRM also proposed placing a life limit on Barber-Coleman pitch trim actuators P/N 27-19008-001, P/N 27-19008-002, P/N 27-19008-004, and P/N 27-19008-005. The NPRM proposed to require you to use the service information described previously to perform these actions.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 307 airplanes in the U.S. registry.

This AD requires pitch trim actuators to have a combination of inspections, overhaul, and/or replacement. We have presented the fleet cost as the lowest cost based on all airplanes needing the inspection and the highest cost based on all airplanes needing the overhaul. The actual fleet cost will be somewhere between the lowest and highest fleet cost presented. We have no way of determining the number of airplanes needing replacement. (See below for airplane replacement cost.)

We estimate the following costs to do the inspection or overhaul:

Labor cost | Parts cost | Total cost per airplane | Total cost on U.S. operators
For inspection: 4 work-hours × $80 per hour = $320 | None | $320 | $98,240
For overhaul: 4 work-hours × $80 per hour = $320 | $9,000 | 9,320 | 2,861,240

We estimate the following costs to do any necessary replacements that are required through the actions of this AD. We have no way of determining the number of airplanes that may need this replacement:

Labor cost | Parts cost | Total cost per airplane
4 work-hours × $80 per hour = $320 | $64,000 | $64,320

The replacement estimate is based on replacing the pitch trim actuator with a new Simmonds-Precision P/N DL5040M8 pitch trim actuator. If the pitch trim actuator is replaced with a different P/N FAA-approved pitch trim actuator or a zero-timed FAA-approved pitch trim actuator the cost to the owner/operator could be less.

The estimated costs represented in the above actions include the costs associated with AD 98-19-15 R1, AD 2000-03-17, and the costs of this AD. The added cost impact this AD imposes upon an owner/operator over that already required by AD 98-19-15 R1 and AD 2000-03-17 is the eventual replacement of the pitch trim actuator if the airplane currently has installed a Barber-Coleman pitch trim actuator P/N 27-19008-001, P/N 27-19008-002, P/N 27-19008-004, or P/N 27-19008-005.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-25927; Directorate Identifier 2006-CE-52-AD” in your request.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended].

2. The FAA amends § 39.13 by removing Airworthiness Directive (AD) 98-19-15 R1, Amendment 39-11507 (65 FR 1540, January 11, 2000), and AD 2000-03-17, Amendment 39-11576 (65 FR 8037, February 17, 2000); and by adding the following new AD:

2007-16-03 M7 Aerospace LP (Type Certificate No. A5SW, A8SW, and A18SW formerly held by Fairchild Aircraft Incorporated): Amendment 39-15142; Docket No. FAA-2006-25927; Directorate Identifier 2007-CE-52-AD.

Effective Date

(a) This AD becomes effective on September 7, 2007.

Affected ADs

(b) This AD supersedes the following ADs:

(1) AD 98-19-15 R1, Amendment 39-11507; and

(2) AD 2000-03-17, Amendment 39-11576.

Applicability

(c) This AD applies to all Models SA226-AT, SA226-T, SA226-T(B), SA226-TC, SA227-AC (C-26A), SA227-AT, SA227-BC (C-26A), SA227-CC, SA227-DC (C-26B), SA227-PC, and SA227-TT airplanes, all serial numbers, that:

(1) are certificated in any category; and

(2) are equipped with pitch trim actuator Barber-Coleman part number (P/N) 27-19008-001, Barber-Coleman P/N 27-19008-002, Barber-Coleman P/N 27-19008-004, Barber-Coleman P/N 27-19008-005, Barber-Coleman P/N 27-19008-006, Barber-Coleman P/N 27-19008-007, Simmonds-Precision P/N DL5040M5, Simmonds-Precision P/N DL5040M6, or Simmonds-Precision P/N DL5040M8.

Unsafe Condition

(d) This AD results from reports of mechanical failure of the pitch trim actuator causing the horizontal stabilizer to move to full aircraft nose up. We are issuing this AD to detect excessive freeplay or rod slippage in the pitch trim actuator, which, if not detected and corrected, could result in pitch trim actuator failure. We are also issuing to lessen the severity of pitch upset if a pitch trim actuator mechanical failure occurs. These conditions could lead to possible loss of control. In addition, we are issuing to eliminate the use of certain pitch trim actuators that require frequent critical inspections or replacements.

Compliance

(e) To address this problem, you must do the following, unless already done:

(1) For airplanes with a Barber-Coleman pitch trim actuator P/N 27-19008-001, P/N 27-19008-002, P/N 27-19008-004, or P/N 27-19008-005: Before further flight after September 25, 1998 (the effective date of AD 98-19-15), incorporate the text in paragraphs (e)(1)(i) and (e)(1)(ii) of this AD into the Limitations Section of the FAA-approved airplane flight manual (AFM). The owner/operator holding at least a private pilot certificate as authorized by section 43.7 of the Federal Aviation Regulations (14 CFR 43.7) may insert the information specified in paragraphs (e)(1)(i) and (e)(1)(ii) of this AD into the AFM Limitations Section. This may be done by inserting a copy of this AD into the AFM. Make an entry into the aircraft records showing compliance with this portion of the AD in accordance with section 43.9 of the Federal Aviation Regulations (14 CFR 43.9).

(i) “Limit the maximum indicated airspeed to maneuvering airspeed (Va) as shown in the appropriate airplane flight manual (AFM)”; and

(ii) “The minimum crew required is two pilots.”

Note 1: Fairchild Service Letter 226-SL-017, Fairchild Service Letter 227-SL-033, and Fairchild Service Letter CC7-SL-023, all FAA Approved: August 26, 1998; Revised: September 2, 1998, address the subject matter of this AD.

Note 2: The before further flight compliance time of paragraph (e)(1) of this AD is retained from AD 98-19-15 R1.

Note 3: Installation of any FAA-approved pitch trim actuator other than the Barber-Coleman P/N 27-19008-001, P/N 27-19008-002, P/N 27-19008-004, or P/N 27-19008-005 terminates the requirements of paragraph (e)(1) of this AD.

(2) For all airplanes: Do the following actions at the times specified in the initial inspection or overhaul column and the repetitive inspection or overhaul column in table 1 of this AD:

(i) For airplanes equipped with a Simmonds-Precision pitch trim actuator P/N DL5040M5, P/N DL5040M6, or P/N DL5040M8: Measure the freeplay of the pitch trim actuator and inspect the pitch trim actuator for rod slippage using the INSTRUCTIONS section of Fairchild Aircraft SA226 Series Service Letter (SL) 226-SL-005 or Fairchild Aircraft SA227 Series SL 227-SL-011, both Revised: August 3, 1999; or Fairchild Aircraft SA227 Series Service Letter CC7-SL-028, Issued: August 12, 1999, as applicable.

(ii) For airplanes equipped with Barber-Colman pitch trim actuators P/N 27-19008-001, P/N 27-19008-002, P/N 27-19008-004, or P/N 27-19008-005: Do a functional inspection of the pitch trim actuator using the INSTRUCTIONS section of Fairchild Aircraft SA226 Series SL 226-SL-014, Fairchild Aircraft SA227 Series SL 227-SL-031, or Fairchild Aircraft SA227 Series SL CC7-SL-021; all Revised: February 1, 1999; as applicable.

Note 4: The actions in paragraphs (e)(2)(i) and (e)(2)(ii) of this AD are the same as the actions in AD 2000-03-17. The only difference between this AD and AD 2000-03-17 is the addition of life limits to Barber-Coleman pitch trim actuators P/N 27-19008-001, P/N 27-19008-002, P/N 27-19008-004, or P/N 27-19008-005.

(iii) For airplanes equipped with Barber-Colman pitch trim actuators P/N 27-19008-006 or P/N 27-19008-007: Overhaul the pitch trim actuator following the applicable maintenance manual.

(3) For all airplanes: Before further flight, replace the pitch trim actuator following the applicable maintenance manual when any of the following occurs:

(i) The pitch trim actuator is inspected following paragraphs (e)(2)(i) and (e)(2)(ii) of this AD and the freeplay limitations are exceeded, rod slippage is found, or a ratcheting sound occurs, as specified in the applicable service letters; or

(ii) The installed pitch trim actuator reaches its repetitive replacement time as specified in table 1 in paragraph (e)(4) of this AD.

(4) Table 1 below presents the pitch trim actuators that could be installed and the compliance times for the initial inspections or overhaul, repetitive inspections or overhaul, and repetitive replacements required by this AD:

Table 1.—Inspection/Overhaul and Replacement Requirements for Pitch Trim Actuators
Condition | Initial inspection or overhaul | Repetitive inspection or overhaul | Repetitive replacement
(i) For all affected airplane models (except for the Models SA227-CC and SA227-DC) that have an original Simmonds-Precision pitch trim actuator, P/N DL5040M5, installed | Inspect following paragraph (e)(2)(i) of this AD before accumulating 3,000 hours time-in-service (TIS) on the pitch trim actuator or within 50 hours TIS after April 17, 1995 (the effective date of AD 93-15-02 R1), whichever occurs later | Inspect following paragraph (e)(2)(i) of this AD before accumulating 250 hours TIS after the initial inspection and repetitively thereafter at intervals not to exceed 250 hours TIS until accumulating the hours TIS specified in paragraph (e)(4)(i) Repetitive Replacement column of this AD | Replace the pitch trim actuator with a Simmonds-Precision P/N DL5040M6, Simmonds-Precision P/N DL5040M8, Barber-Coleman P/N 27-19008-006, Barber-Coleman P/N 27-19008-007, or an FAA-approved equivalent pitch trim actuator before accumulating 5,000 hours TIS on the pitch trim actuator, 500 hours TIS after the initial inspection, or within 30 days after September 7, 2007 (the effective date of this AD), whichever occurs later.
(ii) For all affected airplane models (except for the Models SA227-CC and SA227-DC) that have a replacement Simmonds-Precision pitch trim actuator, P/N DL5040M5, installed | Inspect following paragraph (e)(2)(i) of this AD before accumulating 5,000 hours TIS on the pitch trim actuator or within 50 hours TIS after April 17, 1995 (the effective date of AD 93-15-02 R1), whichever occurs later | Inspect following paragraph (e)(2)(i) of this AD before accumulating 300 hours TIS after the initial inspection and repetitively thereafter at intervals not to exceed 300 hours TIS until accumulating the hours TIS specified in paragraph (e)(4)(ii) Repetitive Replacement column of this AD | Replace the pitch trim actuator with a Simmonds-Precision P/N DL5040M6, Simmonds-Precision P/N DL5040M8, Barber-Coleman P/N 27-19008-006, Barber-Coleman P/N 27-19008-007, or an FAA-approved equivalent pitch trim actuator before accumulating 6,500 hours TIS on the pitch trim actuator or within 30 days after September 7, 2007 (the effective date of this AD), whichever occurs later.
(iii) For all affected airplane models (except for the Models SA227-CC and SA227-DC) that have a replacement Simmonds-Precision pitch trim actuator, P/N DL5040M6, installed. This part can be new, modified from a P/N DL5040M5 pitch trim actuator, or overhauled and zero-timed | Inspect following paragraph (e)(2)(i) of this AD before accumulating 7,500 hours TIS on the pitch trim actuator or within 50 hours TIS after April 17, 1995 (the effective date of AD 93-15-02 R1), whichever occurs later | Inspect following paragraph (e)(2)(i) of this AD before accumulating 300 hours TIS after the initial inspection and repetitively thereafter at intervals not to exceed 300 hours TIS until accumulating the hours TIS specified in paragraph (e)(4)(iii) Repetitive Replacement column of this AD | Replace the pitch trim actuator with a Simmonds-Precision P/N DL5040M6, Simmonds-Precision P/N DL5040M8, Barber-Coleman P/N 27-19008-006, Barber-Coleman P/N 27-19008-007, or an FAA-approved equivalent pitch trim actuator before accumulating 9,900 hours TIS on the pitch trim actuator or within 30 days after September 7, 2007 (the effective date of this AD), whichever occurs later.
(iv) For all affected airplane models (except for the Models SA227-CC and SA227-DC) that have a replacement Simmonds-Precision pitch trim actuator, P/N DL5040M5, installed that was overhauled and zero-timed where both nut assemblies, P/N AA56142, were replaced with new assemblies during overhaul | Inspect following paragraph (e)(2)(i) of this AD before accumulating 5,000 hours TIS on the pitch trim actuator or within 50 hours TIS after April 17, 1995 (the effective date of AD 93-15-02 R1), whichever occurs later | Inspect following paragraph (e)(2)(i) of this AD before accumulating 300 hours TIS after the initial inspection and repetitively thereafter at intervals not to exceed 300 hours TIS until accumulating the hours TIS specified in paragraph (e)(4)(iv) Repetitive Replacement column of this AD | Replace the pitch trim actuator with a Simmonds-Precision P/N DL5040M6, Simmonds-Precision P/N DL5040M8, Barber-Coleman P/N 27-19008-006, Barber-Coleman P/N 27-19008-007, or an FAA-approved equivalent pitch trim actuator before accumulating 6,500 hours TIS on the pitch trim actuator or within 30 days after September 7, 2007 (the effective date of this AD), whichever occurs later.
(v) For all affected airplane models (except for the Models SA227-CC and SA227-DC) that have a replacement Simmonds-Precision P/N DL5040M5 pitch trim actuator installed that was overhauled and zero-timed where both nut assemblies, P/N AA56142, were not replaced with new assemblies during overhaul | Inspect following paragraph (e)(2)(i) of this AD before accumulating 3,000 hours TIS on the pitch trim actuator or within 50 hours TIS after April 17, 1995 (the effective date of AD 93-15-02 R1), whichever occurs later | Inspect following paragraph (e)(2)(i) of this AD before accumulating 250 hours TIS after the initial inspection and repetitively thereafter at intervals not to exceed 250 hours TIS until accumulating the hours TIS specified in paragraph (e)(4)(v) Repetitive Replacement column of this AD | Replace the pitch trim actuator with a Simmonds-Precision P/N DL5040M6, Simmonds-Precision P/N DL5040M8, Barber-Coleman P/N 27-19008-006, Barber-Coleman P/N 27-19008-007, or an FAA-approved equivalent pitch trim actuator before accumulating 5,000 hours TIS on the pitch trim actuator or within 30 days after September 7, 2007 (the effective date of this AD), whichever occurs later.
(vi) For all affected airplane models (except for the Models SA227-CC and SA227-DC) that have a newly fabricated or overhauled and zero-timed Barber-Colman pitch trim actuator, P/N 27-19008-001, P/N 27-19008-002, P/N 27-19008-004, or P/N 27-19008-005 | Inspect following paragraph (e)(2)(ii) of this AD before accumulating 500 hours total TIS on the pitch trim actuator or within 50 hours TIS after December 1, 1997 (the effective date of AD 97-23-01), whichever occurs later | Inspect following paragraph (e)(2)(ii) of this AD before accumulating 300 hours TIS after the initial inspection and repetitively thereafter at intervals not to exceed 300 hours TIS until accumulating the hours TIS specified in paragraph (e)(4)(vi) Repetitive Replacement column of this AD | Replace the pitch trim actuator with a Simmonds-Precision P/N DL5040M6, Simmonds-Precision P/N DL5040M8, Barber-Coleman P/N 27-19008-006, Barber-Coleman P/N 27-19008-007, or an FAA-approved equivalent pitch trim actuator before accumulating 5,000 hours TIS on the pitch trim actuator or within 30 days after September 7, 2007 (the effective date of this AD), whichever occurs later.
(vii) For the Models SA227-CC and SA227-DC that have a Simmonds-Precision pitch trim actuator P/N DL5040M5 or P/N DL5040M6 installed | None | None | Replace the pitch trim actuator with a Simmonds-Precision P/N DL5040M8, Barber-Coleman P/N 27-19008-006 or P/N 27-19008-007, or an FAA-approved equivalent pitch trim actuator before accumulating 1,500 hours TIS on the pitch trim actuator or within 30 days after September 7, 2007 (the effective date of this AD), whichever occurs later.
(viii) For the Models SA227-CC and SA227-DC that have a newly fabricated or overhauled and zero-timed Barber-Colman pitch trim actuator, P/N 27-19008-001, P/N 27-19008-002, P/N 27-19008-004, or P/N 27-19008-005 | Inspect following paragraph (e)(2)(ii) of this AD before accumulating 500 hours total TIS on the pitch trim actuator or within 50 hours TIS after December 1, 1997 (the effective date of AD 97-23-01), whichever occurs later | Inspect following paragraph (e)(2)(ii) of this AD before accumulating 300 hours TIS after the initial inspection and repetitively thereafter at intervals not to exceed 300 hours TIS until accumulating the hours TIS specified in paragraph (e)(4)(viii) Repetitive Replacement column of this AD | Replace the pitch trim actuator with a Simmonds-Precision P/N DL5040M8, Barber-Coleman P/N 27-19008-006, Barber-Coleman P/N 27-19008-007, or an FAA-approved equivalent pitch trim actuator before accumulating 5,000 hours TIS on the pitch trim actuator or within 30 days after September 7, 2007 (the effective date of this AD), whichever occurs later.
(ix) For all affected airplanes with a Simmonds-Precision pitch trim actuator, P/N DL5040M8, installed | Inspect following paragraph (e)(2)(i) of this AD before accumulating 7,500 hours TIS on the pitch trim actuator or within the next 50 hours TIS after April 10, 2000 (the effective date of AD 2000-03-17), whichever occurs later | Inspect following paragraph (e)(2)(i) of this AD before accumulating 300 hours TIS after the initial inspection and repetitively thereafter at intervals not to exceed 300 hours TIS until accumulating the hours TIS specified in paragraph (e)(4)(ix) Repetitive Replacement column of this AD | Replace the pitch trim actuator with a Simmonds-Precision P/N DL5040M8, Barber-Coleman P/N 27-19008-006 or P/N 27-19008-007, or an FAA-approved equivalent pitch trim actuator before accumulating 9,900 hours TIS on the pitch trim actuator or within 30 days after September 7, 2007 (the effective date of this AD), whichever occurs later.
(x) For all affected airplanes with a Barber-Colman P/N 27-19008-006 or 27-19008-007 pitch trim actuator installed | Overhaul following paragraph (e)(2)(iii) of this AD before accumulating 2,000 hours TIS on the pitch trim actuator | Overhaul following paragraph (e)(2)(iii) of this AD before accumulating 2,000 hours TIS on the pitch trim actuator | No replacement requirements.

(5) For all airplane models except Models SA227-CC and SA227-DC: As of September 7, 2007 (the effective date of this AD), do not install as a replacement any of the following pitch trim actuators or FAA-approved equivalent P/Ns:

(i) Barber-Colman P/N 27-19008-001;

(ii) Barber-Colman P/N 27-19008-002;

(iii) Barber-Colman P/N 27-19008-004;

(iv) Barber-Colman P/N 27-19008-005; or

(v) Simmonds-Precision P/N DL5040M5.

(6) For all airplane Models SA227-CC and SA227-DC: As of September 7, 2007 (the effective date of this AD), do not install as a replacement any of the following pitch trim actuators or FAA-approved equivalent P/Ns:

(i) Barber-Colman P/N 27-19008-001;

(ii) Barber-Colman P/N 27-19008-002;

(iii) Barber-Colman P/N 27-19008-004;

(iv) Barber-Colman P/N 27-19008-005;

(v) Simmonds-Precision P/N DL5040M5; or

(vi) Simmonds-Precision P/N DL5040M6.

Alternative Methods of Compliance (AMOCs)

(f) The Manager, Fort Worth Airplane Certification Office (ACO), FAA, ATTN: Werner Koch, Aerospace Engineer, 2601 Meacham Blvd., Fort Worth, Texas 76137-4298, has the authority to approve AMOCs for this AD, if requested using the procedures found in 14 CFR 39.19. Before using any approved AMOC on any airplane to which the AMOC applies, notify your appropriate principal inspector (PI) in the FAA Flight Standards District Office (FSDO), or lacking a PI, your local FSDO.

Material Incorporated by Reference

(g) You must use the service information specified in table 2 of this AD to do the actions required by this AD, unless the AD specifies otherwise.

(1) On April 10, 2000 (65 FR 8037, February 17, 2000) the Director of the Federal Register approved the incorporation by reference of the service information listed in table 2 of this AD under 5 U.S.C. 552(a) and 1 CFR part 51.

(2) For service information identified in this AD, contact M7 Aerospace LP, 10823 N. E. Entrance, San Antonio, Texas 78216.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Table 2.—Material Incorporated by Reference
Service Letter (SL) | Date
Fairchild Aircraft SA226 Series SL 226-SL-005 | Revised: August 3, 1999.
Fairchild Aircraft SA227 Series SL 227-SL-011 | Revised: August 3, 1999.
Fairchild Aircraft SA227 Series SL CC7-SL-028 | Issued: August 12, 1999.
Fairchild Aircraft SA226 Series SL 226-SL-014 | Revised: February 1, 1999.
Fairchild Aircraft SA227 Series SL 227-SL-031 | Revised: February 1, 1999.
Fairchild Aircraft SA227 Series SL CC7-SL-021 | Revised: February 1, 1999.

Issued in Kansas City, Missouri, on July 27, 2007.
James E. Jackson,
Acting Manager, Small Airplane Directorate, Aircraft Certification Service.

[FR Doc. E7-15018 Filed 8-2-07; 8:45 am]

BILLING CODE 4910-13-P